SMALL BUSINESS ADMINISTRATION

Region 4—Georgia District Advisory Council Public Meeting

The Georgia District Advisory Council (Georgia DAC) of the U.S. Small Business Administration will be conducting a meeting on Friday, February 7, 2002, 8:30-11:30 a.m. at the Hyatt Regency Savannah, 2 West Bay Street, Savannah, GA. The meeting is open to the public. Seating is limited and is available on a first come, first serve basis. The focus of the meeting will be on the future goals, activities, and operations of the Georgia DAC.

Anyone wishing further information concerning the meeting or who wishes to submit oral or written comments should contact Terri L. Denison, Designated Federal Official for the SBA's Georgia District Advisory Council, by phone at (404) 331-0100, ext. 212 or by e-mail at terri.denison@sba.gov. Requests for oral comments must be in writing to Ms. Denison and received no later than January 31, 2003.

The public is invited.

Candace Stoltz,
Director Advisory Councils.

[FR Doc. 03-2627 Filed 2-4-03; 8:45 am]

BILLING CODE 8025-01-P